DEPARTMENT OF TRANSPORTATION

Federal Aviation Administration

15th Meeting: RTCA Special Committee 206/EUROCAE WG 76 Plenary

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held December 9-12, 2008 from 9 a.m. to 5 p.m.

ADDRESSES: The meeting will be held at (training facilities), Rua C, Edificio 7, Aeroporto de Lisboa, 1700-008 Sisboa, Portugal. Hosted by: NAV Portugal, http://www.nav.pt.

FOR FURTHER INFORMATION CONTACT: José Resendes, jose.resendes@nav.pt also Ana Paula Frangolho—32-2-729 4702.

SUPPLEMENTARY INFORMATION: Pursuant to section 10(a) (2) of the Federal Advisory Committee Act (Pub. L. 92-463, 5 U.S.C., Appendix 2), notice is hereby given for a Special Committee 206 meeting/EUROCE WG 76. The agenda will include:

9 December

Opening Plenary (Chairman's Remarks and Introductions, Review and Approve Meeting Agenda and Minutes, Discussion).

• Schedule for this week

• Action Item Review

• Schedule for next meetings

Presentations.

• Flight Test Campaign of FLYSAFE—Laurence Mutuel

• Action Items—Gary Livack and Kevin Mattison

• Action Items—Christian Bousmanne

• Others to be determined

SPR and INTEROP.

10 December

AIS Subgroup meeting.

Meteorology Subgroup meeting.

11 December

Subgroup 1 and Subgroup 2 meetings.

12 December

Subgroup 1 and Subgroup 2 meetings.

Closing Plenary Session (Other Business, Meeting Plans and Dates, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 5, 2008.
Francisco Estrada C.,
RTCA Advisory Committee.

[FR Doc. E8-26845 Filed 11-10-08; 8:45 am]

BILLING CODE 4910-13-P